DEPARTMENT OF COMMERCE

International Trade Administration

[A-489-815]

Light-Walled Rectangular Pipe and Tube From Turkey: Preliminary Results of Antidumping Duty Administrative Review, Partial Rescission, and Preliminary Determination of No Shipments; 2018-2019

AGENCY: Enforcement and Compliance, International Trade Administration, Department of Commerce.

SUMMARY: The Department of Commerce (Commerce) preliminarily determines that sales of light-walled rectangular pipe and tube (LWRPT) were made at prices below normal value during the period of review (POR) May 1, 2018 through April 30, 2019. Interested parties are invited to comment on these preliminary results.

DATES: Applicable July 24, 2020.

FOR FURTHER INFORMATION CONTACT: Thomas Hanna, AD/CVD Operations, Office IV, Enforcement and Compliance, International Trade Administration, U.S. Department of Commerce, 1401 Constitution Avenue NW, Washington, DC 20230; telephone: (202) 482-0835.

SUPPLEMENTARY INFORMATION:

Background

On May 31, 2019, domestic interested parties Independence Tube Corporation and Southland Tube (collectively, Nucor) requested an administrative review of eleven companies under the antidumping duty (AD) order on LWRPT from Turkey.¹ On July 15, 2019, Commerce published a notice initiating an administrative review of the AD order on LWRPT from Turkey covering these eleven companies for the POR.² On July 30, 2019, Commerce selected Agir Haddecilik A.S. (Agir) and Noksel Celik Boru Sanayi A.S. (Noksel) as mandatory respondents.³ On October 15, 2019, Nucor timely withdrew its request for an administrative review of four companies, including Agir.⁴ Eight companies claimed that they made no shipments of subject merchandise to the United States during the POR, including two companies for which Nucor has withdrawn its request for this review.⁵

¹ See Nucor's Letter, “Light-Walled Rectangular Pipe and Tube from Turkey: Request for Administrative Review,” dated May 31, 2019.

² See Initiation of Antidumping and Countervailing Duty Administrative Reviews, 84 FR 33739 (July 15, 2019).

³ See Commerce's Letters to Agir and Noksel dated July 30, 2019 (Initial Questionnaire).

⁴ See Nucor's Letter, “Light-Walled Rectangular Pipe and Tube from Turkey: Partial Withdrawal of Request for Administrative Review,” dated October 15, 2019.

⁵ See Cinar Boru Profil Sanayi ve Ticaret Anonim Sirketi's Letter, “Light-Walled Rectangular Pipe and Tube from Turkey (A-489-815),” dated June 26, 2019; Ozdemir Boru Profil Sanayi ve Ticaret Ltd Sti's Letter, “Light-Walled Rectangular Pipe and Tube from Turkey (A-489-815): Antidumping Duty Administrative Review (5/1/18-4/30/19),” dated July 22, 2019; Çayirova Boru Sanayi ve Ticaret A.Ş., Yücel Boru ve Profil Endüstrisi A.Ş., and Yücelboru Ihracat Ithalat ve Pazarlama A.Ş.'s Letter, “Light-walled rectangular pipe from Turkey; Yucel no shipments letter,” dated August 10, 2019; and Tosçelik Profil ve Sac Endüstrisi A.S., Tosyali Dis Ticaret A.S. and Toscelik Metal Ticaret A.Ş.'s Letter, “Light-walled rectangular pipe from Turkey; Yucel no shipments letter,” dated August 10, 2019.

On January 6, 2020, Commerce extended the deadline for issuing the preliminary results of this review from January 31, 2020 to May 29, 2020.⁶ On April 24, 2020, Commerce tolled all deadlines in administrative reviews by 50 days, thereby extending the deadline for these preliminary results until July 20, 2020.⁷

⁶ See Memorandum, “Light-Walled Rectangular Pipe and Tube from Turkey: Extension of Deadline for Preliminary Results of Antidumping Duty Administrative Review,” dated January 6, 2020.

⁷ See Memorandum, “Tolling of Deadlines for Antidumping and Countervailing Duty Administrative Reviews in Response to Operational Adjustments Due to COVID-19,” dated April 24, 2020.

Scope of the Order

The merchandise covered by the antidumping order is certain welded carbon quality light-walled steel pipe and tube, of rectangular (including square) cross section, having a wall thickness of less than 4 millimeters. The merchandise subject to the order is classified in the Harmonized Tariff Schedule of the United States at subheadings 7306.61.50.00 and 7306.61.70.60. For a full description of the scope of the order, see the Preliminary Decision Memorandum.⁸

⁸ See Memorandum, “Decision Memorandum for Preliminary Results of the Antidumping Duty Administrative Review: Light-Walled Rectangular Pipe and Tube from Turkey; 2018-2019,” dated concurrently with, and hereby adopted by, this notice (Preliminary Decision Memorandum).

Methodology

Commerce is conducting this review in accordance with section 751(a) of the Tariff Act of 1930, as amended (the Act). Export prices have been calculated in accordance with section 772 of the Act. Normal value was calculated in accordance with section 773 of the Act. For a full description of the methodology underlying our conclusions, see the Preliminary Decision Memorandum. A list of topics discussed in the Preliminary Decision Memorandum is provided in the appendix to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at http://enforcement.trade.gov/frn/. The signed and electronic versions of the Preliminary Decision Memorandum are identical in content.

Partial Rescission of Administrative Review

Pursuant to 19 CFR 351.213(d)(1), Commerce will rescind an administrative review, in whole or in part, if the party or parties that requested a review withdraws their request(s) within 90 days of the publication date of the notice of initiation of the requested review. On October 15, 2019, Nucor timely withdrew its request for an administrative review of Agir, Cinar Boru Profil Sanayi ve Ticaret A.S., MTS Lojistik ve Tasimacilik Hizmetleri Ticaret A.S., and Ozdemir Boru Profil Sanayi ve Ticaret Ltd Sti.⁹ Because Nucor timely withdrew its request for a review of these four companies, and no other parties requested a review of these companies, in accordance with 19 CFR 351.213(d)(1), Commerce is rescinding this review of the AD order on LWRPT from Turkey with respect to these four companies.

⁹ See Nucor's Letter, “Light-Walled Rectangular Pipe and Tube from Turkey: Partial Withdrawal of Request for Administrative Review,” dated October 15, 2019.

Preliminary Determination of No Shipments

Six companies for which this review is ongoing have claimed that each company had no entries of subject merchandise during the POR. Commerce sent its standard inquiry to U.S. Customs and Border Protection (CBP) requesting information which may contradict these claims. CBP has provided no information in response to Commerce's inquiries that contradicted the claims of six of the companies still under review which claimed to have made no shipments of subject merchandise to the United States during the POR. Therefore, Commerce preliminarily determines that these six companies had no entries of subject merchandise during the POR.¹⁰ For additional information regarding this determination, see the Preliminary Decision Memorandum. Consistent with Commerce's practice in a market economy proceeding, Commerce is not rescinding this administrative review, in part, with respect to these six companies, but intends to complete the review with respect to the companies for which it has preliminarily found no shipments and to issue appropriate liquidation instructions to CBP based on the final results of the review.¹¹

¹⁰ The six companies are: (1) Cayirova Boru Sanayi ve Ticaret A.S.; (2) Yucel Boru ve Profil Endustrisi A.S.; (3) Yucelboru Ihracat Ithalat ve Pazarlama A.S.; (4) Toscelik Profil ve Sac Endustrisi A.S.; (5) Tosyali Dis Ticaret A.S.; and (6) Toscelik Metal Ticaret A.S.

¹¹ See, e.g., Welded Carbon Steel Standard Pipe and Tube Products From Turkey: Preliminary Results of Antidumping Duty Administrative Review; 2013-2014, 80 FR 32090, 32091 (June 5, 2015), unchanged in Welded Carbon Steel Standard Pipe and Tube Products From Turkey: Final Results of Antidumping Duty Administrative Review and Final Determination of No Shipments; 2013-2014, 80 FR 76674 (December 10, 2015).

Preliminary Results of Review

Commerce preliminarily determines the following weighted-average dumping margin exists for the period May 1, 2018 through April 30, 2019:

Producer or exporter | Weighted- average dumping margin (percent)
Noksel Celik Boru Sanayi A.S. (Noksel) | 23.39

Disclosure and Public Comment

Commerce intends to disclose the calculations used in its analysis to interested parties in this review within five days of the date of publication of this notice in accordance with 19 CFR 351.224(b).

Interested parties are invited to comment on the preliminary results of this review. Pursuant to 19 CFR 351.309(c)(1)(ii), interested parties may submit case briefs no later than 30 days after the date of publication of this notice. Rebuttal briefs, limited to issues raised in the case briefs, may be filed no later than seven days after the time limit for filing case briefs.¹² Parties who submit case briefs or rebuttal briefs in this proceeding are requested to submit with each brief: (1) A statement of the issue, (2) a brief summary of the argument, and (3) a table of authorities.¹³ Executive summaries should be limited to five pages total, including footnotes.¹⁴ Case and rebuttal briefs should be filed using ACCESS.¹⁵ Note that Commerce has temporarily modified certain of its requirements for serving documents containing business proprietary information, until further notice.¹⁶

¹² See 19 CFR 351.309(d)(1); see also Temporary Rule Modifying AD/CVD Service Requirements Due to COVID-19; Extension of Effective Period, 85 FR 41363 (July 10, 2020) (Temporary Rule).

¹³ See 19 CFR 351.309(c)(2) and (d)(2).

¹⁴ Id.

¹⁵ See 19 CFR 351.303.

¹⁶ See Temporary Rule.

Pursuant to 19 CFR 351.310(c), any interested party may request a hearing within 30 days of the publication of this notice in the Federal Register. If a hearing is requested, Commerce will notify interested parties of the hearing date and time to be determined. Interested parties who wish to request a hearing must submit a written request to the Assistant Secretary for Enforcement and Compliance, filed electronically via ACCESS within 30 days after the date of publication of this notice. Requests should contain: (1) The party's name, address, and telephone number; (2) the number of hearing participants; and (3) a list of the issues to be discussed in the hearing. Issues raised in the hearing will be limited to those raised in the respective case and rebuttal briefs.

We intend to issue the final results of this administrative review, including the results of our analysis of issues raised by the parties in the written comments, within 120 days of publication of these preliminary results in the Federal Register, unless otherwise extended.¹⁷

¹⁷ See section 751(a)(3)(A) of the Act and 19 CFR 351.213(h)(1).

Assessment Rates

Upon issuance of the final results, Commerce will determine, and CBP shall assess, antidumping duties on all appropriate entries in accordance with 19 CFR 351.212(b)(1). We will calculate importer-specific assessment rates equal to the ratio of the total amount of dumping calculated for examined U.S. sales of merchandise imported by a particular importer to the total entered value of the reported U.S. sales in accordance with 19 CFR 351.212(b)(1).¹⁸ Where the respondent's weighted-average dumping margin is zero or de minimis, or an importer-specific assessment rate is zero or de minimis, we will instruct CBP to liquidate the appropriate entries without regard to antidumping duties.¹⁹ The final results of this review shall be the basis for the assessment of antidumping duties on entries of merchandise under review and for future cash deposits of estimated antidumping duties, where applicable.²⁰

¹⁸ In these preliminary results, Commerce applied the assessment rate calculation method adopted in Antidumping Proceedings: Calculation of the Weighted-Average Dumping Margin and Assessment Rate in Certain Antidumping Duty Proceedings; Final Modification, 77 FR 8101 (February 14, 2012) (Final Modification for Reviews).

¹⁹ See Final Modification for Reviews, 77 FR at 8103; see also 19 CFR 351.106(c)(2).

²⁰ See section 751(a)(2)(C) of the Act.

For entries of subject merchandise during the POR produced by the respondent for which it did not know that its merchandise was destined for the United States, we will instruct CBP to liquidate such entries at the all-others rate if there is no rate for the intermediate company(ies) involved in the transaction.

We intend to issue liquidation instructions to CBP 15 days after the date of publication of the final results of this review.

Cash Deposit Requirements

The following cash deposit requirements will be effective for all shipments of LWRPT from Turkey entered, or withdrawn from warehouse, for consumption on or after the date of publication of the notice of the final results of this administrative review, as provided for by section 751(a)(2)(C) of the Act: (1) The cash deposit rate for Noksel will be equal to the weighted-average dumping margin established in the final results of this review (except, if the rate is zero or de minimis, then no cash deposit will be required); (2) for merchandise exported by a producer or exporter not covered in this review but covered in a prior segment of the proceeding, the cash deposit rate will continue to be the company-specific rate published for the most recently completed segment of this proceeding in which the producer or exporter was included; (3) if the exporter is not a firm covered in this review, a prior review, or the less-than-fair-value investigation, but the producer is, the cash deposit rate will be the rate established in the most recently completed segment of the proceeding for the producer of the merchandise; and (4) the cash deposit rate for all other producers or exporters will continue to be 27.04 percent ad valorem, the all-others rate established in the less-than-fair-value investigation.²¹ These cash deposit requirements, when imposed, shall remain in effect until further notice.

²¹ See Notice of Final Determination of Sales at Less Than Fair Value: Light-Walled Rectangular Pipe and Tube from Turkey, 73 FR 19814 (April 11, 2008).

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

These preliminary results of administrative review are issued and published in accordance with sections 751(a)(1) and 777(i)(1) of the Act and 19 CFR 351.213(h)(1).

Dated: July 20, 2020.
Jeffrey I. Kessler,
Assistant Secretary for Enforcement and Compliance.

Appendix—List of Topics Discussed in the Preliminary Decision Memorandum

I. Summary

II. Background

III. Scope of the Order

IV. Partial Rescission of Review

V. Preliminary Determination of No Shipments

VI. Discussion of the Methodology

VI. Recommendation

[FR Doc. 2020-16072 Filed 7-23-20; 8:45 am]

BILLING CODE 3510-DS-P